SOCIAL SECURITY ADMINISTRATION

20 CFR Parts 402

[Regulation No. 2; Docket No.—SSA-2007-0020]

RIN 0960-AG46

Technical Amendments To Correct Cross-References; Correction

AGENCY: Social Security Administration.

ACTION: Correcting amendments.

SUMMARY: This document contains corrections to the final regulations published in the Federal Register of Thursday, March 29, 2007 (72 FR 14669). The regulations were intended to correct incorrect cross-references in the CFR.

DATES: Effective Date: Effective on July 3, 2007.

FOR FURTHER INFORMATION CONTACT: Rosemarie A. Greenwald, Social Insurance Specialist, Office of Regulations, Social Security Administration, 6401 Security Boulevard, Baltimore, MD 21235-6401. Call (410) 966-7813 or TTY 1-800-325-0778 for information about these correcting amendments. For information on eligibility or filing for benefits, call our national toll-free numbers 1-(800)-772-1213 or TTY 1-(800)-325-0778. You may also contact Social Security online at http://www.socialsecurity.gov/.

SUPPLEMENTARY INFORMATION:

Background

The final regulations published March 29, 2007, changed cross-references in 20 CFR 402.35(b)(2) from §§ 404.984(b), 410.610c(b) and 416.1484(b) to §§ 404.985(c), 410.670c(b) and 416.1485(c), respectively. However, two of the new cross-references, §§ 404.985(c) and 416.1485(c) should have been §§ 404.985(b) and 416.1485(b). In addition, we omitted another set of corrections in the same CFR section. The next-to-last sentence incorrectly cites 20 CFR 404.984, 410.610, and 416.1484, which should correctly read as 20 CFR 404.985(c), 410.670c, and 416.1485(c), respectively.

Need for Correction

As published, the final regulations contained errors at 20 CFR 402.35(b)(2). Therefore, we are changing the last two sentences of that section to reflect correct CFR citations and cross-references.

(Catalog of Federal Domestic Assistance Programs Nos. 96.001 Social Security—Disability Insurance; 96.002 Social Security—Retirement Insurance; 96.004 Social Security—Survivors Insurance and 96.006 Supplemental Security Income.)

List of Subjects in 20 CFR Part 402

Administrative practice and procedure; Freedom of information.

Dated: June 27, 2007.
Paul Kryglik,
Acting SSA Regulations Officer.

Accordingly, part 402 of chapter III of title 20 of the Code of Federal Regulations is corrected by making the following correcting amendments:

PART 402—AVAILABILITY OF INFORMATION AND RECORDS TO THE PUBLIC

1. The authority citation for part 402 continues to read as follows:

Authority: Secs. 205, 702(a)(5), and 1106 of the Social Security Act; (42 U.S.C. 405, 902(a)(5), and 1306); 5 U.S.C. 552 and 552a; 8 U.S.C. 1360; 18 U.S.C. 1905; 26 U.S.C. 6103; 30 U.S.C. 923(b); 31 U.S.C. 9701; E.O. 12600, 52 FR 23781, 3 CFR, 1987 Comp., p. 235.

2. Section 402.35 is being corrected by revising the second and third sentences of paragraph (b)(2) to read as follows:

§ 402.35 Publication.

* * * * *

(b) * * *

(2) * * * They are binding on all components of the Social Security Administration, except with respect to claims subject to the relitigation procedures established in 20 CFR 404.985(c), 410.670c, and 416.1485(c). For a description of Social Security Acquiescence Rulings, see 20 CFR 404.985(b), 410.670c(b), and 416.1485(b) of this title.

* * * * *

[FR Doc. E7-12828 Filed 7-2-07; 8:45 am]

BILLING CODE 4191-02-P